DEPARTMENT OF ENERGY

Federal Energy Regulatory Commission

Combined Notice of Filings #1

July 2, 2008.

Take notice that the Commission has received the following Natural Gas Pipeline Rate and Refund Report filings:

Docket Numbers: RP96-320-092.

Applicants: Gulf South Pipeline Company, LP.

Description: Gulf South Pipeline Company LP submits two capacity release agreements containing negotiated rate provisions executed with Q-West Energy Company.

Filed Date: 06/27/2008.

Accession Number: 20080630-0020.

Comment Date: 5:00 p.m. Eastern Time on Wednesday, July 09, 2008.

Docket Numbers: RP99-176-163.

Applicants: Natural Gas Pipeline Company of America.

Description: Natural Gas Pipeline Company of America LLC submits an Amendment to the Firm Transportation and Storage Negotiated Rate Agreement etc.

Filed Date: 06/27/2008.

Accession Number: 20080630-0019.

Comment Date: 5:00 p.m. Eastern Time on Wednesday, July 09, 2008.

Docket Numbers: RP01-382-018.

Applicants: Northern Natural Gas Company.

Description: Northern Natural Gas submits for filing its annual report setting forth the Carlton Resolution buyout and surcharge dollars reimbursed to the Carlton Sourcers.

Filed Date: 06/26/2008.

Accession Number: 20080626-5030.

Comment Date: 5:00 p.m. Eastern Time on Tuesday, July 08, 2008.

Docket Numbers: RP03-36-032.

Applicants: Dauphin Island Gathering Partners.

Description: Dauphin Island Gathering Partners submits Thirty-Seventh Revised Sheet 9 et al. to FERC Gas Tariff, First Revised Volume 1.

Filed Date: 06/27/2008.

Accession Number: 20080630-0018.

Comment Date: 5:00 p.m. Eastern Time on Wednesday, July 09, 2008.

Docket Numbers: RP06-200-044.

Applicants: Rockies Express Pipeline LLC.

Description: Rockies Express Pipeline, LLC submits Third Revised Sheet 9H et al. to FERC Gas Tariff, Second Revised Volume 1, to be effective 7/1/08.

Filed Date: 06/26/2008.

Accession Number: 20080627-0007.

Comment Date: 5:00 p.m. Eastern Time on Tuesday, July 08, 2008.

Docket Numbers: RP96-272-077.

Applicants: Northern Natural Gas Company.

Description: Northern Natural Gas Co submits Eighth Revised Sheet 66B.01 et al. to FERC Gas Tariff, Fifth Revised Volume 1, to become effective 7/1/08.

Filed Date: 06/30/2008.

Accession Number: 20080701-0102.

Comment Date: 5:00 p.m. Eastern Time on Monday, July 14, 2008.

Docket Numbers: RP00-426-037.

Applicants: Texas Gas Transmission, LLC.

Description: Texas Gas Transmission, LLC submits Original Sheet 55D et al. to FERC Gas Tariff, Second Revised Volume 1.

Filed Date: 06/30/2008.

Accession Number: 20080701-0103.

Comment Date: 5:00 p.m. Eastern Time on Monday, July 14, 2008.

Docket Numbers: RP00-632-029.

Applicants: Dominion Transmission, Inc.

Description: Dominion Transmission, Inc. files its Informational Annual Fuel Report.

Filed Date: 06/30/2008.

Accession Number: 20080630-5051.

Comment Date: 5:00 p.m. Eastern Time on Monday, July 14, 2008.

Docket Numbers: RP08-423-000.

Applicants: Viking Gas Transmission Company.

Description: Viking Gas Transmission Co submits Third Revised Sheet 12A to FERC Gas Tariff, First Revised Volume 1, to be effective 7/1/08.

Filed Date: 06/26/2008.

Accession Number: 20080627-0122.

Comment Date: 5:00 p.m. Eastern Time on Tuesday, July 08, 2008.

Docket Numbers: RP08-424-000.

Applicants: Tres Palacios Gas Storage LLC.

Description: Tres Palacios Gas Storage, LLC submits Original Sheet 0 et al. to FERC Gas Tariff Original Volume 1, Volume 1; Part 2 of 3.

Filed Date: 06/27/2008.

Accession Number: 20080630-0022.

Comment Date: 5:00 p.m. Eastern Time on Wednesday, July 09, 2008.

Docket Numbers: RP08-426-000.

Applicants: El Paso Natural Gas Company.

Description: El Paso Natural Gas Company submits tariff sheets that propose a system-wide increase in rates and several incremental refinements to EPNG's existing service and penalty structure etc., effective 1/1/09.

Filed Date: 06/30/2008.

Accession Number: 20080701-0153.

Comment Date: 5:00 p.m. Eastern Time on Tuesday, July 15, 2008.

Docket Numbers: RP08-427-000.

Applicants: Questar Overthrust Pipeline Company.

Description: Questar Overhurst Pipeline Company submits Second Revised Sheet 83 to its FERC Gas Tariff, Second Revised Volume 1-A.

Filed Date: 06/30/2008.

Accession Number: 20080701-0101.

Comment Date: 5:00 p.m. Eastern Time on Monday, July 14, 2008.

Docket Numbers: RP08-428-000.

Applicants: National Fuel Gas Supply Corporation.

Description: National Fuel Gas Supply submits the 116th Revised Sheet 9 to its FERC Gas Tariff, Fourth Revised Volume 1, to become effective 7/1/08.

Filed Date: 06/30/2008.

Accession Number: 20080701-0100.

Comment Date: 5:00 p.m. Eastern Time on Monday, July 14, 2008.

Docket Numbers: RP08-429-000.

Applicants: Trunkline LNG Company, LLC.

Description: Trunkline LNG Company, LLC submits Fourteenth Revised Sheet 5 to FERC Gas Tariff, Second Revised Volume 1-A, to become effective 8/1/08.

Filed Date: 06/30/2008.

Accession Number: 20080701-0099.

Comment Date: 5:00 p.m. Eastern Time on Monday, July 14, 2008.

Docket Numbers: RP08-430-000.

Applicants: Trunkline LNG Company, LLC.

Description: Trunkline LNG Company submits FERC Gas Tariff Second Revised Volume 1-A, to become effective 8/1/08.

Filed Date: 06/30/2008.

Accession Number: 20080701-0098.

Comment Date: 5:00 p.m. Eastern Time on Monday, July 14, 2008.

Docket Numbers: RP08-431-000.

Applicants: Cheyenne Plains Gas Pipeline Company LLC.

Description: Cheyenne Plains Gas Pipeline Company, LLC submits First Revised Sheet 241 et al., to become effective 8/7/08.

Filed Date: 06/30/2008.

Accession Number: 20080701-0097.

Comment Date: 5:00 p.m. Eastern Time on Monday, July 14, 2008.

Docket Numbers: RP08-435-000.

Applicants: Dominion Transmission, Inc.

Description: Report of Annual Overrun/Penalty Revenue Distribution of Dominion Transmission, Inc.

Filed Date: 07/01/2008.

Accession Number: 20080701-5126.

Comment Date: 5:00 p.m. Eastern Time on Monday, July 14, 2008.

Any person desiring to intervene or to protest in any of the above proceedings must file in accordance with Rules 211 and 214 of the Commission's Rules of Practice and Procedure (18 CFR 385.211 and 385.214) on or before 5:00 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive email notification when a document is added to a subscribed docket(s). For assistance with any FERC Online service, please email FERCOnlineSupport@ferc.gov. or call (866) 208-3676 (toll free). For TTY, call (202) 502-8659.

Nathaniel J. Davis, Sr.,
Deputy Secretary.

[FR Doc. E8-15609 Filed 7-9-08; 8:45 am]

BILLING CODE 6717-01-P